POSTAL SERVICE

Privacy Act; System of Records

AGENCY: Postal Service®

ACTION: Notice of a modified system of records.

SUMMARY: The United States Postal Service® (Postal Service) is proposing to modify one General Privacy Act System of Records (SOR) to support an initiative sponsored by its Transportation Strategy group to procure a software tool that will be used to manage bid solicitation and contract management activities more effectively, by aligning tactical buying decisions with overall sourcing strategies. This initiative also aligns with the network modernization objective within the USPS Delivering for America 10-year plan.

DATES: These revisions will become effective without further notice on August 24, 2022, unless, responses to comments received on or before that date, result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to an existing system of records (SOR) to support the implementation of a software solution that will provide enhanced functionality and be used to more effectively manage bid solicitation and contract management activities to meet USPS transportation needs.

I. Background

The Postal Service is proposing modifications to SOR 500.100 Carrier and Vehicle Operator Records, to support an initiative to replace existing information systems that have reached the end of their useful life, with a more effective solution that will be used for fulfilling transportation contracting management needs. USPS is implementing a Commercial off-the-shelf (COTS) Bid Solicitation and Contract Management System (CMS) that will align tactical buying decisions with overall sourcing strategies. The USPS Transportation group encompasses Transportation Services, Air, Contract Delivery Service (CDS), Processing Network Transportation (PNT), and Local Distribution Transportation (LDT) with management and oversight of over 12,000 contracts.

Each year thousands of transportation contracts reach the end of their contract term period of performance and require analysis, procurement and negotiation of new agreements. In addition, the Postal Service must respond to unexpected events and emergencies related to seasonal changes, weather emergencies and global crises requiring urgency and flexibility to solicit contracts for reactionary services in a timely manner. The implementation of the COTS solution comprehensively creates, generates and releases solicitations, produces and manages contract requests, and provides approval and tracking capabilities for all transportation organizational stakeholders' groups. The solution will be supported by a combined cloud-based architecture system, that includes a secure, stable, reliable, and scalable application, with a user interface platform for internal and external stakeholders.

The new solution for Bid Solicitation and Contract Management is expected to meet the changing needs of the USPS' transportation needs to improve usability, increase accuracy, and reduce redundant activities. A logistics gateway and user interface will be established for existing suppliers, that will also facilitate participation of new bidders to provide service for USPS. All information is currently requested by and received via a printed form. To support transition from the old systems, the newly implemented solution will offer the opportunity to convert printed form data into an electronic means that accepts the supplier's electronic signature as confirmation. The system will also house both historical and current contracts, manage workflow, automatically assign purchase requests, facilitate contract approvals, send email notifications and follow-up emails, along with opportunities for customization of data fields and reporting capabilities.

II. Rationale for Changes to USPS Privacy Act Systems of Records

The Postal Service is proposing modifications to USPS SOR 500.100 Carrier and Vehicle Operator Records in the summary of changes listed below:

• Updated System Managers to reflect current USPS organizational structure

• Added new Categories of Individuals #4, Purpose #7, Categories of Records #4, Retention period #7

• Added “suppliers” to the Record Source Categories

• Added “contract number” to Retrieval of Records

III. Description of the Modified System of Records

Pursuant to 5 U.S.C. 552a(e)(11), interested persons are invited to submit written data, views, or arguments on this proposal. A report of the proposed revisions to this SOR has been sent to Congress and to the Office of Management and Budget for their evaluations. The Postal Service does not expect this modified system of records to have any adverse effect on individual privacy rights. Accordingly, for the reasons stated above, the Postal Service proposes revisions to USPS SOR 500.100 Carrier and Vehicle Operator Records as follows:

SYSTEM NAME AND NUMBER:

USPS 500.100 Carrier and Vehicle Operator Records.

SECURITY CLASSIFICATION:

None.

SYSTEM LOCATION:

Headquarters; area and district facilities; processing and distribution centers; bulk mail centers; vehicle maintenance facilities; Post Offices; Integrated Business Solutions Services Centers; Accounting Service Centers; contractor or licensee locations; and facilities employing persons under a highway vehicle contract.

SYSTEM MANAGER(S):

Vice President, Retail & Post Office Operations, United States Postal Service, 475 L'Enfant Plaza SW, Washington, DC 20260.

Vice President, Delivery Operations, United States Postal Service, 475 L'Enfant Plaza SW, Washington, DC 20260.

Vice President, Transportation Strategy, United States Postal Service, 475 L'Enfant Plaza SW, Washington, DC 20260.

AUTHORITY FOR MAINTENANCE OF THE SYSTEM:

39 U.S.C. 401, 403, 404, and 1206.

PURPOSE(S) OF THE SYSTEM:

1. To reimburse carriers who use privately owned vehicles to transport the mail pursuant to a contractual agreement.

2. To evaluate delivery and collection operations and to administer these functions.

3. To provide local Post Office managers, supervisors, and transportation managers with information to assign routes and vehicles, and to adjust workload, schedules, and type of equipment operated.

4. To determine contract vehicle operator suitability for assignments requiring access to mail.

5. To serve as a basis for vehicle operator corrective action and presentation of safe driving awards.

6. To administer the USPS fleet card program used to purchase commercial fuel and oil, maintenance repair, polishing and washing, servicing, shuttling, and towing.

7. To administer a Bid Solicitation and Contract Management System to meet USPS transportation needs.

CATEGORIES OF INDIVIDUALS COVERED BY THE SYSTEM:

1. City Letter carriers.

2. Current and former USPS employees who operate or maintain USPS-owned or leased vehicles.

3. Contract highway vehicle operators.

4. Suppliers, including companies and individuals, under contract or agreement with the Postal Service to provide transportation services.

CATEGORIES OF RECORDS IN THE SYSTEM:

1. Carrier information: Records related to letter carriers, including carrier's name, home address, Social Security Number, Employee Identification Number, postal assignment information, work contact information, finance number(s), duty location, pay location, route number and work schedule, and effective date of agreement for use of a privately owned vehicle to transport the mail, if applicable.

2. Vehicle operator information: Records of employees' operation or maintenance of USPS-owned or leased vehicles, including employee name, home address, Social Security Number, Employee Identification Number, age, postal assignment information, work contact information, finance number(s), duty location, pay location, work schedule, Fuel Purchase Fleet Card Personal Identification Number (PIN), and other records of vehicle operation and maintenance.

3. Highway vehicle contract employee information: Records related to contract employee name, Social Security Number, address and employment history, driver's license number, and contract assignment information.

4. Bid Solicitation and Contract Management System Records: Individual operator name, owner name, address, email address, phone number, SMS text, other contact information, Social Security Number, Taxpayer Identification Number (TIN), driver's license number and state, route number, trip schedules, Accounts Payable Excellence (APEX) system number, Standard Carrier Alpha Code (SCAC), contract number, bid solicitation information, financial statements, insurance information, company name, company address, company phone number, company email address, list of services provided, cost of services provided, geographic coverage, other information such as safe driving or accident records and other scanned in documents that accompany contract information, contract Terms and Conditions, lease agreements, payment information, and scanned images of hardcopy contract documentation.

RECORD SOURCE CATEGORIES:

Employees; contractors or suppliers; carrier supervisors; route inspectors; and state motor vehicle departments.

ROUTINE USES OF RECORDS MAINTAINED IN THE SYSTEM, INCLUDING CATEGORIES OF USERS AND PURPOSES OF SUCH USES:

Standard routine uses 1. through 9. apply.

POLICIES AND PRACTICES FOR STORAGE OF RECORDS:

Automated database, computer storage media, and paper.

POLICIES OR PRACTICES FOR RETRIEVAL OF RECORDS:

By name, Social Security Number, Taxpayer Identification Number (TIN), Employee Identification Number, pay location, Postal Service facility name, route number, vehicle number, or Fuel Purchase Fleet Card Personal Identification Number (PIN), contract number, Accounts Payable Excellence (APEX) System Number, and Standard Carrier Alpha Code (SCAC).

POLICIES AND PRACTICES FOR RETENTION AND DISPOSAL OF RECORDS:

1. Route inspection records and minor adjustment worksheets are retained 2 years where inspections or minor adjustments are made annually or more frequently. Where inspections are made less than annually, records are retained until a new inspection or minor adjustment, and an additional 2 years thereafter.

2. Statistical engineering records are retained 5 years and may be retained further on a year-to-year basis.

3. Agreements for use of a privately owned vehicle are retained 2 years. Post office copies of payment authorizations are retained 90 days. Vehicle records are maintained for the life of the vehicle.

4. Records of employees who operate or maintain USPS vehicles are retained 4 years.

5. Records of highway vehicle contract employees are retained 1 year after contract expiration or contract employee termination.

6. Records pertaining to the USPS fuel fleet card purchase program are retained for 10 years. Records existing on paper are destroyed by burning, pulping, or shredding. Records existing on computer storage media are destroyed according to the applicable USPS media sanitization practice.

7. Records stored within the Bid Solicitation and Contract Management System are retained for 6 years after the end of the fiscal year in which the contract record become inactive.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURES:

Current and former employees, and highway vehicle contract employees, wanting to know if information about them is maintained in this system of records must address inquiries to the facility head where currently or last employed. Requests must include full name, Social Security Number or Employee Identification Number, and, where applicable, the route number and dates of any related agreements or contracts.

EXEMPTIONS PROMULGATED FOR THE SYSTEM:

None.

HISTORY:

May 15, 2020, 85 FR 29492; June 27, 2012, 77 FR 38342.

* * * * *

Joshua J. Hofer,
Attorney, Ethics & Legal Compliance.

[FR Doc. 2022-15853 Filed 7-22-22; 8:45 am]

BILLING CODE 7710-12-P